DEPARTMENT OF HEALTH AND HUMAN SERVICES

Health Resources and Services Administration

Supplemental Award for Family Engagement and Leadership in Systems of Care Program

AGENCY: Health Resources and Services Administration (HRSA), Department of Health and Human Services.

ACTION: Notice of supplemental award.

SUMMARY: HRSA is providing approximately $600,000 in supplemental award funds in federal fiscal year 2023 to the recipient of the Family Engagement and Leadership in Systems of Care award to support technical assistance and provide subawards to Family-to-Family Health Information Centers (F2F HIC) to support Medicaid redetermination education, guidance, and support to children with special health care needs and their families, particularly those receiving services through Medicaid Home and Community Based Services waivers.

FOR FURTHER INFORMATION CONTACT: Jessica Teel, Senior Public Health Analyst, Integrated Services Branch, Division of Services for Children with Special Health Needs, Maternal and Child Health Bureau, HRSA, at jteel@hrsa.gov or (240) 645-5518.

SUPPLEMENTARY INFORMATION: Intended Recipient of the Award: Family Voices, as the sole recipient under HRSA-23-078.

Amount of Non-Competitive Award: One award at approximately $600,000.

Project Period: June 1, 2023, to May 31, 2024.

CFDA Number: 93.110.

Award Instrument: Cooperative Agreement.

Authority: Social Security Act, Title V, § 501(a)(2) (42 U.S.C. 701(a)(2)), as amended.

Table 1—Recipients and Award Amounts
Grant No. | Award recipient name | City, state | Award amount
U40MC00149 | Family Voices | Concord, MA | $600,000 (estimated).

Justification: HRSA will provide supplemental funds of approximately $600,000 to enable subawards to F2F HICs to support Medicaid redetermination education, guidance, and support to children with special health care needs and their families, particularly those receiving services through Medicaid Home and Community Based Services waivers.

Carole Johnson,
Administrator.

[FR Doc. 2023-17909 Filed 8-18-23; 8:45 am]

BILLING CODE P